DEPARTMENT OF THE INTERIOR

National Park Service

[NPS-WASO-NAGPRA-10247; 2200-1100-665]

Notice of Inventory Completion: U.S. Department of Agriculture, Forest Service, Rio Grande National Forest, CO

AGENCY: National Park Service, Interior.

ACTION: Notice.

SUMMARY: The U.S. Department of Agriculture, Forest Service, Rio Grande National Forest, in cooperation with the U.S. Department of Interior, Bureau of Land Management, Anasazi Heritage Center, has completed an inventory of human remains in consultation with the appropriate Indian tribes, and has determined that there is no cultural affiliation between the remains and any present-day Indian tribe. Disposition of the human remains to the Indian tribe stated below may occur if no additional requestors come forward.

DATES: Representatives of any Indian tribe that believes it has a cultural affiliation with the human remains should contact the Rio Grande National Forest at the address below by July 5, 2012.

ADDRESSES: Ms. Angie M. Krall, Heritage Program Manager, U.S. Department of Agriculture, Forest Service, Rio Grande National Forest, 1803 W. Highway 160, Monte Vista, CO 81144, telephone (719) 852-6242.

SUPPLEMENTARY INFORMATION: Notice is here given in accordance with the Native American Graves Protection and Repatriation Act (NAGPRA), 25 U.S.C. 3003, of the completion of an inventory of human remains under the control of the U.S. Department of Agriculture, Forest Service, Rio Grande National Forest, and in the possession of the U.S. Department of Interior, Bureau of Land Management, Anasazi Heritage Center.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

In accordance with procedures detailed in a signed Native American Graves Protection and Repatriation Act Memorandum of Understanding between these tribes and Federal land management agencies within the San Luis Valley, CO, initial letters were sent to the following tribes requesting their attendance at a planned consultation meeting sponsored by the Rio Grande National Forest to be held on April 5, 2011. Tribes initially contacted by letter included: the Jicarilla Apache Nation, New Mexico; Navajo Nation of Arizona, New Mexico and Utah; Ohkay Owingeh, New Mexico (formerly the Pueblo of San Juan); Pueblo of Acoma, New Mexico; Pueblo of Cochiti, New Mexico; Pueblo of Jemez, New Mexico; Pueblo of Isleta, New Mexico; Pueblo of Laguna, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Taos, New Mexico; Pueblo of Zia, New Mexico; Southern Ute Tribe of the Southern Ute Reservation, Colorado; Ute Indian Tribe of the Uintah & Ouray Reservation, Utah; Ute Mountain Tribe of the Ute Mountain Reservation, Colorado, New Mexico & Utah; and the Zuni Tribe of the Zuni Reservation, New Mexico.

The Rio Grande National Forest professional staff, prior to this initial contact and consultation, made an assessment of the subject human remains with assistance from analyses by Colorado College Department of Anthropology, Colorado Springs, CO. Additional assessment was made in a consultation meeting held with the following tribes in Delores, CO, on April 5, 2011: The Jicarilla Apache Nation, New Mexico; Navajo Nation of Arizona, New Mexico and Utah; Pueblo of Santa Ana, New Mexico; Pueblo of Santa Clara, New Mexico; Southern Ute Tribe of the Southern Ute Reservation, Colorado; Ute Indian Tribe of the Uintah & Ouray Reservation, Utah; and the Ute Mountain Tribe of the Ute Mountain Reservation, Colorado, New Mexico & Utah.

The consulting tribes were provided reports at this meeting giving detailed descriptions of the human remains, their discovery and condition, as well as the agency offices in possession and custody of the remains. All representatives of the tribes present requested that the Forest Service follow the procedures for repatriation outlined in the interagency/intertribal Memorandum of Understanding (MOU) mentioned above. This MOU was signed by governmental officials from all of the above listed tribes, and the Bureau of Land Management (San Luis Public Lands Center), National Park Service (Great Sand Dunes National Park and Preserve), U.S. Fish and Wildlife Service (Alamosa/Monte Vista and Baca National Wildlife Refuges), and the U.S. Forest Service (Rio Grande National Forest). The consultation meeting resulted in a consensus that the human remains listed in this notice maintain their status as culturally unidentifiable, and they be repatriated to the Ute Mountain Tribe of the Ute Mountain Reservation, Colorado, New Mexico & Utah.

History and Description of the Remains

Between 1950 and 2000, human remains were removed from various locations on U.S. Forest Service lands in southern Colorado and subsequently stored at the U.S. Department of Interior, Bureau of Land Management, Anasazi Heritage Center, in southern Colorado. No known individuals were identified. No associated funerary objects were present.

In 1985, human remains representing, at minimum, one individual were excavated from Cotton Creek, in Saguache County, CO. The remains are a cranial calotte consisting of the cranial vault but missing the facial skeleton and cranial base (catalogue # 5SH1047-01). Additional remains associated with this burial are seven human bone fragments, including: A right temporal bone fragment (5SH1047-02); a right temporal bone fragment containing the middle and inner ear (5SH1047-03); a left temporal bone fragment, petrous portion (5SH1047-04); a sphenoid fragment (5SH1047-05); a right temporal fragment (5SH1047-06) (fits with 5SH1047-02); a possible anterior wall of an external auditory meatus (5SH1047-07); and one unidentified bone fragment (5SH1047-08). Cotton Creek drains the high peak areas of the Sangre de Cristo Mountains and flows into the San Luis Valley, and the remains were found eroding out of a bank between a road and a beaver pond in the Saguache Ranger District, on lands of the U.S. Department of Agriculture, Forest Service, Rio Grande National Forest. The remains were found by a member of a Student Conservation Corps work crew in the beaver pond near a foot trail and were removed by the Saguache Country Sheriff soon after discovery. The remains likely date to the late prehistoric or early historic period. At the time of discovery, the remains were tentatively classified as Native American due to the complex cranial suture patterns and the slight sagittal keeling of the vault.

On March 5, 1990, human remains representing, at minimum, one individual (catalogue # LB-90-01) were part of a private donation to the U.S. Department of Agriculture, Forest Service, Rio Grande National Forest. The remains were in the possession of a private collector 20 years prior to the donation. The original site of discovery is unknown. The remains consist of a nearly complete cranium plus two right parietal fragments that have been glued together. The entire cranium has been shellacked or varnished. The postero-inferior vault is darkly stained, indicative of having been in the ground. The remainder of the skull is bleached indicating exposure to the sun and elements, and weathering cracks are present in exposed areas. Four maxillary teeth are present plus one root fragment. Following examination, the remains were determined to be from an adult male, 30-40 years of age. Cultural affiliation and age of the remains could not be determined. The remains were determined to be Native American based on cranial morphology and the degree of dental attrition.

In 1994, human remains representing, at minimum, one individual (catalogue # NA-94-A) was located by private citizens in Del Norte, in Saguache County, on the Rio Grande National Forest, CO. The private citizens found the remains in a secondary burial in a shallow recent gravesite in the foothills of Del Norte, CO. The discovery was reported to the Saguache County Sheriff's Department and the remains were removed by sheriff's representatives. The condition of the remains strongly suggests that the remains were coated with undetermined materials and used as a display for unknown purposes. The remains included a nearly complete cranium, mandible, and complete left humerus, left and right radii, right femur, left and right tibiae, right fibula, and several thoracic vertebrae. The remains are those of an adult male, over 40 years of age at the time of death. Cultural affiliation and age of the remains could not be determined. Based on cranial and dental morphology the remains were determined to be Native American.

In 1997, human remains representing, at minimum, one individual (catalogue #2130 (07/03/96)) were turned over to the Rio Grande National Forest by the Saguache County Sheriff's Department. No details were provided on date or location of removal, and the remains were found on “a shelf in the East Storage Building” in the town of Saguache. The remains consist of a cranial calotte (or calva) consisting of the cranial vault but missing the facial skeleton and cranial base. No teeth were present. A moderate degree of polish is evident over the entire skull. Partial closure of sutures and the general small size of the cranial vault indicates the remains are of a sub-adult adolescent. A flattening of the lower occipital is noted, possibly from the use of a cradleboard, indicating Native American ancestry.

Determinations Made by the U.S. Department of Agriculture, Forest Service, Rio Grande National Forest

Officials of the U.S. Department of Agriculture, Forest Service, Rio Grande National Forest have determined that:

• Based on two analyses of the human remains by the Department of Anthropology, Colorado College, Colorado Springs, CO, in 1986 and 1994, the human remains are determined to be Native American.

• Pursuant to 25 U.S.C. 3001(2) and based on the analyses and as a result of consultation, a relationship of shared group identity cannot be reasonably traced between the Native American human remains and any present-day Indian tribe.

• According to final judgments of the Indian Claims Commission and other lines of evidence, the lands from which the Native American human remains were removed is the aboriginal land of the Jicarilla Apache Nation, New Mexico; Navajo Nation of Arizona, New Mexico and Utah; Ohkay Owingeh, New Mexico (formerly the Pueblo of San Juan); Pueblo of San Ildefonso, New Mexico; Southern Ute Tribe of the Southern Ute Reservation, Colorado; Ute Indian Tribe of the Uintah & Ouray Reservation, Utah; Ute Mountain Tribe of the Ute Mountain Reservation, Colorado, New Mexico & Utah; and the Zuni Tribe of the Zuni Reservation, New Mexico.

• Pursuant to 25 U.S.C. 3001(9), the human remains described in this notice represent the physical remains of four individuals of Native American ancestry.

• Pursuant to 43 CFR 10.11(c)(1), the disposition of the human remains is to Ute Mountain Tribe of the Ute Mountain Reservation, Colorado, New Mexico & Utah.

Additional Requestors and Disposition

Representatives of any Indian tribe that believes itself to be culturally affiliated with the human remains or any other Indian tribe that believes it satisfies the criteria in 43 CFR 10.11(c)(1) should contact Ms. Angie M. Krall, Heritage Program Manager, U.S. Department of Agriculture, Forest Service, Rio Grande National Forest, 1803 W. Highway 160, Monte Vista, CO 81144, telephone (719) 852-6242 before July 5, 2012. Disposition of the human remains to the Ute Mountain Tribe of the Ute Mountain Reservation, Colorado, New Mexico & Utah may proceed after that date if no additional requestors come forward.

The U.S. Department of Agriculture, Forest Service, Rio Grande National Forest is responsible for notifying the Jicarilla Apache Nation, New Mexico; Navajo Nation of Arizona, New Mexico and Utah; Pueblo of Santa Ana, New Mexico; Pueblo of Santa Clara, New Mexico; Southern Ute Tribe of the Southern Ute Reservation, Colorado; Ute Indian Tribe of the Uintah & Ouray Reservation, Utah; and the Ute Mountain Tribe of the Ute Mountain Reservation, Colorado, New Mexico & Utah that this notice has been published.

Dated: May 30, 2012.
Sherry Hutt,
Manager, National NAGPRA Program.

[FR Doc. 2012-13451 Filed 6-1-12; 8:45 am]

BILLING CODE 4312-50-P